DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, date October 14, 1980, and corrected at 45 FR 69296, October 20, 1980, as amended most recently at 67 FR 42268-71, dated June 21, 2002) is amended to centralize contract and procurement functions within the Procurement and Grants Office (PGO), Office of Program Services, Centers for Disease Control and Prevention, and restructure PGO.

Section C-B, Organization and Functions, is hereby amended as follows:

Delete the functional statement for the Office of the Director (CA581), Procurement and Grants Office (CA58), Office of Program Services (CA5), and insert the following:

(1) Provides leadership and guidance in all areas of Procurement and Grants Office (PGO) activities; (2) provides technical and managerial direction for the development of CDC-wide policies, procedures, and practices in the acquisition, assistance, and materiel management areas; (3) participates with senior management in program planning, policy determinations, evaluations, and decisions concerning acquisition, assistance, and materiel management; (4) provides direction for award, administration, measures of effectiveness and termination of contracts, purchase orders, grants, and cooperative agreements; (5) maintains a continuing review of CDC-wide acquisition, assistance management, and materiel management operations to assure adherence to laws, policies, procedures, and regulations; (6) maintains liaison with HHS, GSA, and other Federal agencies on acquisition, assistance, and materiel management policy, procedure, and operating matters; (7) provides administrative services and direction for budget, property, travel, and personnel of the PGO; (8) processes data for and maintains the contract information system for CDC and HHS; (9) provides technical and managerial direction for the development, implementation and maintenance of the Integrated Contracts Expert (ICE) System on an CDC-wide basis; (10) provides administrative support activities for training and development of all PGO employees; (11) operates CDC's Small and Disadvantaged Business Program and provides direction and support to various other socioeconomic programs encompassing the acquisition and assistance activities; (12) provides cost advisory support to acquisition and assistance activities with responsibility for initiating requests for audits and evaluations, and providing recommendations to contracting officer or grants management officer; (13) as required, participates in negotiations with potential contractors and grantees, developing overhead rates for profit and nonprofit organizations, and provides professional advice on accounting and cost principles in resolving audit exceptions as they relate to the acquisition and assistance processes; (14) provides information technology support with responsibility for planning, budgeting, designing, developing, coordinating, monitoring, and implementing IT projects, activities, and initiatives; (15) develops and implements organizational strategic planning goals and objectives.

Delete the title and functional statement for Contracts Management Branch (Pittsburgh) (CA583) and insert the following:

Acquisition and Assistance Field Branch (CA583). (1) Plans, directs, and conducts the acquisition of non-personal services, supples, equipment, research and development, studies, and data collection for NIOSH, NCHS, and other CIOs as directed by PGO management through a variety of contractual mechanisms (competitive and non-competitive); (2) plans, directs, and conducts assistance management activities for NIOSH, NCHS, and other CIOs through the awards of grants and cooperative agreements (competitive and non-competitive); (3) reviews statements of work and assistance applications from a management point of view for conformity to laws, regulations, and policies, and negotiates and issues contract, grant, and cooperative agreement awards; (4) provides continuing surveillance of financial and administrative aspects of acquisition and assistance supported activities to assure compliance with appropriate HHS and CDC policies; (5) gives technical assistance, where indicated, to improve the management of acquisition and assistance supported activities and responds to requests for management information from Officer of Director, headquarters, regional staffs, NIOSH, NCHS, and the public; (6) performs contract and purchasing administrative activities including coordination and negotiation of contract modifications, reviewing and approving contractor billings, resolving audit findings, and performing close-out/termination activities; (7) provides for the collection and reporting of business management and programmatic data, and analyzes and monitors business management data on grants and cooperative agreements; (8) assures that contractor and grantee performance is in accordance with contractual and assistance commitments; (9) provides leadership, direction, procurement options and approaches in developing specification/statements of work and contract awards; (10) plans, directs, coordinates, and conducts the grants management functions and processes in support of assistance awards, including cooperative agreements, discretionary grants, block grants, and formula grants, to State and local governments, universities, colleges, research institutions, hospitals, and other public and private organizations, small businesses, and minority- and/or women-owned businesses for NIOSH, NCHS, and other CIOs as directed by PGO management; (11) participates with top program management in program planning, policy determination, evaluation, and directions concerning acquisition and assistance strategies and execution; (12) maintains Branch's official contract and assistance files; (13) maintains a close working relationship with NIOSH, NCHS, and other CIO components in carrying out their missions; (14) establishes Branch goals, objectives, and priorities and assures their consistency and coordination with the overall objectives of PGO.

Delete the title and functional statement for the Grants Management Branch (CA586) and insert the following:

Acquisition and Assistance Branch B (CA586). (1) Plans, directs, and conducts the acquisition of non-personal services, supplies, equipment, research and development, studies, and data collection for CDC through a variety of contractual mechanisms (competitive and non-competitive); (2) plans, directs, and conducts assistance management activities for CDC through the awards of grants and cooperative agreements (competitive and non-competitive); (3) reviews statements of work and assistance applications from a management point of view for conformity to laws, regulations, and policies, and negotiates and issues contract, grant and cooperative agreement awards; (4) provides continuing surveillance of financial and administrative aspects of acquisition and assistance supported activities to assure compliance with appropriate HHS and CDC policies; (5) gives technical assistance, where indicated, to improve the management of acquisition and assistance supported activities and responds to requests for management information from Office of Director, headquarters, regional staffs, CDC program offices and the public; (6) performs contract and purchasing administrative activities including coordination and negotiation of contract modifications, reviewing and approving contractor billings, resolving audit findings, and performing close-out/termination activities; (7) provides for the collection and reporting of business management and programmatic data, and analyzes and monitors business management data on grants and cooperative agreements; (8) assures that contractor and grantee performance is in accordance with contractual and assistance commitments; (9) provides leadership and guidance to CDC project officers and program officials; (10) provides leadership, direction, procurement options and approaches in developing specifications/statements of work and contract awards; (11) plans, directs, coordinates, and conducts the grants management functions and processes in support of assistance awards, including cooperative agreements, discretionary grants, block grants, and formula grants, to State and local governments, universities, colleges, research institutions, hospitals, and other public and private organizations, small businesses, and minority- and/or women-owned businesses for CDC; (12) participates with top program management in program planning, policy determination, evaluation, and directions concerning acquisition and assistance strategies and execution; (13) maintains Branch's official contract and assistance files; (14) maintains a close working relationship with CDC program office components in carrying out their missions; (15) establishes Branch goals, objectives, and priorities and assures their consistency and coordination with the overall objectives of PGO.

Delete the title and functional statement in their entirety for the Contracts Management Activity (Hyattsville (CA587).

Delete the title and functional statement for the Contracts Management Branch (Atlanta) (CA588) and insert the following:

Acquisition and Assistance Branch A (CA588). (1) Plans, directs, and conducts the acquisition of non-personal services, supplies, equipment, research and development, studies, and data collection for CDC through a variety of contractual mechanisms (competitive and non-competitive); (2) plans, directs, and conducts assistance management activities for CDC through the awards of grants and cooperative agreements (competitive and non-competitive); (3) reviews statements of work and assistance applications from a management point of view for conformity to laws, regulations, and policies, and negotiates and issues contract, grant and cooperative agreement awards; (4) provides continuing surveillance of financial and administrative aspects of acquisition and assistance supported activities to assure compliance with appropriate HHS and CDC policies; (5) gives technical assistance, where indicated, to improve the management of acquisition and assistance supported activities and responds to requests for management information from Office of Director, headquarters, regional staffs, CDC program offices and the public; (6) performs contract and purchasing administrative activities including coordination and negotiation of contract modifications, reviewing and approving contractor billings, resolving audit findings, and performing close-out/termination activities; (7) provides for the collection and reporting of business management and programmatic data, and analyzes and monitors business management data on grants and cooperative agreements; (8) assures that contractor and grantee performance is in accordance with contractual and assistance commitments; (9) provides leadership and guidance to CDC project officers and program officials; (10) provides leadership, direction, procurement options and approaches in developing specifications/statements of work and contract awards; (11) plans, directs, coordinate, and conducts the grants management functions and processes in support of assistance awards, including cooperative agreements, discretionary grants, block grants, and formula grants, to State and local governments, universities, colleges, research institutions,hospitals, and other public and private organizations, small businesses, and minority- and/or women-owned businesses for CDC; (12) participate with top program management in program planning, policy determination, evaluation, and directions concerning acquisition and assistance strategies and execution; (13) maintains Branch official contract and assistance files; (14) maintains a close working relationship with CDC program office components in carrying out their missions; (15) establishes Branch goals, objectives, and priorities and assures their consistency and coordination with the overall objectives of PGO.

Delete the functional statement for the Construction and Facilities Management Branch (CA589) and insert the following:

(1) Directs and controls acquisition planning activities to assure total program need are addressed and procurements are conducted in a logical, appropriate, and timely sequence; (2) plans, directs, and conducts the acquisition of non-personal services, institutional support services, architect/engineering services, construction of new buildings, alterations and renovations, and commodities and equipment in support of CDC facilities, utilizing a wide variety of contract types and pricing arrangements; (3) provides leadership, direction, procurement options and approaches in developing specifications/statements of work and contract awards; (4) performs contract and purchasing administrative activities including coordination and negotiation of contract modifications, reviewing and approving contractor billings, resolving audit findings, and performing close-out/termination activities; (5) performs simplified acquisition activities in support of CDC program offices; (6) assures that contractor performance is in accordance with contractual commitments; (7) provides leadership and guidance to CDC project officers and program officials; (8) participates with senior program management in program planning, policy determination, evaluation, and directions concerning acquisition strategies and execution; (9) plans, directs, and coordinates activities of the Branch; (10) maintains Branch's official contracts files; (11) maintains a close working relationship with Facilities Planning and Management Office and other CDC components in carrying out their missions; (12) establishes Branch goals, objectives, and priorities and assures their consistency and coordination with overall objectives of PGO.

Delete the title for the International Contracts and Grants Branch (CA58A) and insert the International and Territories Acquisition and Assistance Branch (CA58A).

Dated: August 23, 2002.
David W. Fleming,
Acting Director, Centers for Disease Control and Prevention.

[FR Doc. 02-22166 Filed 8-29-02; 8:45 am]

BILLING CODE 4160-18-M